DEPARTMENT OF THE INTERIOR

Bureau of Land Management

43 CFR Parts 3900, 3910, 3920, 3930, and 4100

Oil Shale Management—General

CFR Correction

In Title 43 of the Code of Federal Regulations, Part 1000 to End, revised as of October 1, 2011, on page 857, the Subchapter D heading and the Group 4100 heading and note are removed and are inserted on page 889 before the Part 4100 heading.

[FR Doc. 2012-23523 Filed 9-21-12; 8:45 am]

BILLING CODE 1505-01-P